DEPARTMENT OF AGRICULTURE

Forest Service

Tehama County Resource Advisory Committee

AGENCY: Forest Service, USDA.

ACTION: Notice of meeting.

SUMMARY: The Tehama County Resource Advisory Committee (RAC) will hold its first meeting.

DATES: The meeting will be held on January 30, 2002, and will begin at 9 a.m.

ADDRESSES: The meeting will be held at the Tehama County Court House Annex, Conference Room E, 444 Oak Street, Red Bluff, CA.

FOR FURTHER INFORMATION CONTACT: Bobbin Gaddini, Committee Coordinator, USDA, Mendocino National Forest, Grindstone Ranger District, PO Box 164, Elk Creek, CA 95939. (530) 968-5329; Email ggaddini@fs.fed.us.

SUPPLEMENTARY INFORMATION: Agenda items to be covered include: (1) Introductions of all committee members, alternate members and Forest Service personnel. (2) Selection of a chairperson by the committee members. (3) Receive materials explaining the process for considering and recommending Title II projects; and (4) Public Comment. The meeting is open to the public. Public input opportunity will be provided and individuals will have the opportunity to address the Committee at that time.

Dated: December 10, 2001.
James F. Giachino,
Designated Federal Officer.

[FR Doc. 01-30883 Filed 12-13-01; 8:45 am]

BILLING CODE 3410-11-M